FEDERAL ACCOUNTING STANDARDS ADVISORY BOARD

Notice of Meeting Schedule for 2015

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) will meet on the following dates in room 7C13 of the U.S. Government Accountability Office (GAO) Building (441 G St. NW.) unless otherwise noted:

—Wednesday and Thursday, February 25 and 26, 2015

—Wednesday and Thursday, April 29 and 30, 2015

—Wednesday and Thursday, June 24 and 25, 2015

—Wednesday and Thursday, August 26 and 27, 2015

—Wednesday and Thursday, October 21 and 22, 2015

—Wednesday and Thursday, December 16 and 17, 2015

The purpose of the meetings is to discuss issues related to:

—Leases

—Public-Private Partnerships

—Reporting Entity

—Reporting Model

—Risk Assumed, and

—Any other topics as needed.

Any interested person may attend the meetings as an observer. Board discussion and reviews are open to the public. GAO Building security requires advance notice of your attendance. Please notify FASAB of your planned attendance by calling 202-512-7350 at least one day prior to the respective meeting.

FOR FURTHER INFORMATION CONTACT: Wendy Payne, Executive Director, at (202) 512-7350.

Authority: Federal Advisory Committee Act, Pub. L. 92-463.

Dated: June 20, 2014.
Charles Jackson,
Federal Register Liaison Officer.

[FR Doc. 2014-14884 Filed 6-24-14; 8:45 am]

BILLING CODE 1610-02-P